DEPARTMENT OF TRANSPORTATION

Federal Aviation Administration

14 CFR Part 39

[Docket No. FAA-2014-0499; Directorate Identifier 2013-SW-061-AD; Amendment 39-18198; AD 2015-13-11]

RIN 2120-AA64

Airworthiness Directives; Bell Helicopter Textron Canada

AGENCY: Federal Aviation Administration (FAA), DOT.

ACTION: Final rule.

SUMMARY: We are adopting a new airworthiness directive (AD) for Bell Helicopter Textron Canada (BHTC) Model 430 helicopters to require inspecting the tail rotor control tube assembly (control tube) and either repairing or replacing the control tube. This AD was prompted by two reports of failure of the control tube bonded clevis. The actions of this AD are intended to prevent failure of a control tube bonded clevis, which could lead to failure of the control tube and subsequent loss of helicopter control.

DATES: This AD is effective August 11, 2015.

The Director of the Federal Register approved the incorporation by reference of a certain publication listed in this AD as of August 11, 2015.

ADDRESSES: For service information identified in this AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 2601 Meacham Blvd., Room 663, Fort Worth, Texas 76137. It is also available on the Internet at http://www.regulations.gov in Docket No. FAA-2014-0499.

Examining the AD Docket

You may examine the AD docket on the Internet at http://www.regulations.gov or in person at the Docket Operations Office between 9 a.m. and 5 p.m., Monday through Friday, except Federal holidays. The AD docket contains this AD, the Transport Canada Civil Aviation (TCCA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Fuller, Senior Aviation Safety Engineer, Safety Management Group, Rotorcraft Directorate, FAA, 2601 Meacham Blvd., Fort Worth, Texas 76137; telephone (817) 222-5110; email matthew.fuller@faa.gov.

SUPPLEMENTARY INFORMATION:

Discussion

On July 30, 2014, at 79 FR 44147, the Federal Register published our notice of proposed rulemaking (NPRM), which proposed to amend 14 CFR part 39 by adding an AD that would apply to BHTC Model 430 Helicopters, serial number 49001 through 49121, with control tube part number (P/N) 430-001-007-101 installed. The NPRM proposed to require inspecting the control tube and either repairing or replacing it. The proposed requirements were intended to prevent failure of a control tube bonded clevis, which could lead to failure of the control tube and subsequent loss of helicopter control.

The NPRM was prompted by Canadian AD No. CF-2013-30, dated October 7, 2013, issued by TCCA, which is the aviation authority for Canada, to correct an unsafe condition for BHTC Model 430 helicopters with control tube P/N 430-001-007-101. TCCA advises of two failures of the control tube bonded clevis caused by cracking from control tube oscillation. TCCA states that this situation, if not corrected, could result in the loss of control of the helicopter. TCCA AD No. CF-2013-30 consequently requires a one-time inspection of the control tube for damage and contacting BHTC for evaluation of the control tube if the damage exceeds allowable limits. If the tube is not damaged, the damage is within allowable limits, or BHTC Engineering determines the control tube can be returned to service, TCCA AD No. CF-2013-30 requires modifying the tube according to BHTC's service information. TCCA AD No. CF-2013-30 also requires replacing control tubes, P/N 430-001-007-101, with control tube, P/N 430-001-007-105, no later than 12 months from the effective date of its AD.

Comments

We gave the public the opportunity to participate in developing this AD, but we received no comments on the NPRM (79 FR 44147, July 30, 2014).

FAA's Determination

These helicopters have been approved by the aviation authority of Canada and are approved for operation in the United States. Pursuant to our bilateral agreement with Canada, TCCA, its technical representative, has notified us of the unsafe condition described in the TCCA AD. We are issuing this AD because we evaluated all information provided by TCCA and determined the unsafe condition exists and is likely to exist or develop on other helicopters of these same type designs and that air safety and the public interest require adopting the AD requirements as proposed.

Differences Between This AD and the TCCA AD

The TCCA AD requires submitting sketches of a control tube damaged beyond defined limits to BHTC for evaluation. BHTC then determines if the control tube can be returned to service. We make no such requirement in this AD.

Related Service Information Under 1 CFR Part 51

Bell Helicopter Alert Service Bulletin (ASB) No. 430-13-51, dated September 3, 2013, states that BHTC received two reports of control tube, P/N 430-001-007-101, failing because the clevis failed due to fatigue caused by control tube oscillation. ASB No. 430-13-51 specifies a one-time inspection of control tube assembly, P/N 430-001-007-101, to verify if the tube has chaffing damage and indicated that a mandatory replacement would follow when sufficient parts became available. This service information is reasonably available because the interested parties have access to it through their normal course of business or by the means identified in the ADDRESSES section of this AD.

Other Related Service Information

We reviewed Bell Helicopter Technical Bulletin 430-04-35, Revision B, dated March 20, 2009, which recommends that control tube, P/N 430-001-007-101, be replaced with control tube, P/N 430-001-007-105, if damage exists. On June 12, 2014, Bell issued Revision A to ASB No. 430-13-51, which set a compliance date of September 30, 2014, to remove control tube, P/N 430-001-007-101.

Costs of Compliance

We estimate that this AD affects 5 helicopters of U.S. Registry and that labor costs average $85 a work hour. Based on these estimates, we expect the following costs:

• The cost of inspecting the control tube is minimal.

• Repairing the control tube requires 2 work-hours for a labor cost of $170.

• Replacing control tube, P/N 430-001-007-101, with control tube, P/N 430-001-007-105, requires 3 work-hours for a labor cost of $255. Parts cost $3,974 for a total cost per helicopter of $4,229.

According to manufacturer's service information, some of the costs of this AD may be covered under warranty, thereby reducing the cost impact on affected individuals. We do not control warranty coverage by the manufacturer. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-13-11 Bell Helicopter Textron Canada: Amendment 39-18198; Docket No. FAA-2014-0499; Directorate Identifier 2013-SW-061-AD.

(a) Applicability

This AD applies to Bell Helicopter Textron Canada (BHTC) Model 430 Helicopters, serial number 49001 through 49121, with control tube assembly (control tube), part number (P/N) 430-001-007-101 installed, certificated in any category.

(b) Unsafe Condition

This AD defines the unsafe condition as fatigue failure of a tail rotor control tube bonded clevis. This condition could result in failure of the tail rotor control tube and subsequent loss of helicopter control.

(c) Effective Date

This AD becomes effective August 11, 2015.

(d) Compliance

You are responsible for performing each action required by this AD within the specified compliance time unless it has already been accomplished prior to that time.

(e) Required Actions

(1) Within 50 hours time-in-service (TIS), visually inspect each control tube for any damage, for any damage to the clevis, and to determine whether the clevis is correctly bonded to the control tube.

(i) If a control tube and clevis have no damage or damage within acceptable limits and the clevis is correctly bonded to the control tube, repair the control tube by applying tape in accordance with the Accomplishment Instructions, Paragraph 5, of Bell Helicopter Alert Service Bulletin 430-13-51, dated September 3, 2013.

(ii) If the control tube or clevis is damaged beyond acceptable limits or if the clevis is not correctly bonded to the control tube, replace control tube, P/N 430-001-007-101, with control tube, P/N 430-001-007-105.

(2) Within 250 hours TIS, replace each control tube, P/N 430-001-007-101, with control tube, P/N 430-001-007-105.

(f) Alternative Methods of Compliance (AMOCs)

(1) The Manager, Safety Management Group, FAA, may approve AMOCs for this AD. Send your proposal to: Matt Fuller, Senior Aviation Safety Engineer, Safety Management Group, Rotorcraft Directorate, FAA, 2601 Meacham Blvd., Fort Worth, Texas 76137; telephone (817) 222-5110; email matthew.fuller@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Bell Helicopter Technical Bulletin 430-04-35, Revision B, dated March 20, 2009, which is not incorporated by reference, contains additional information about the subject of this AD. For service information, contact Bell Helicopter Textron Canada Limited, 12,800 Rue de l'Avenir, Mirabel, Quebec J7J1R4; telephone (450) 437-2862 or (800) 363-8023; fax (450) 433-0272; or at http://www.bellcustomer.com/files/. You may view this service information at FAA, Office of the Regional Counsel, Southwest Region, 2601 Meacham Blvd., Room 663, Fort Worth, Texas 76137.

(2) The subject of this AD is addressed in Transport Canada Civil Aviation (TCCA) AD No. CF-2013-30, dated October 7, 2013. You may view the TCCA AD on the Internet at http://www.regulations.gov in Docket No. FAA-2014-0499.

(h) Subject

Joint Aircraft Service Component (JASC) Code: 6720, Tail Rotor Control

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bell Helicopter Alert Service Bulletin 430-13-51, dated September 3, 2013.

(ii) Reserved.

(3) For Bell Helicopter Textron Canada Limited service information identified in this AD, contact Bell Helicopter Textron Canada Limited, 12,800 Rue de l'Avenir, Mirabel, Quebec J7J1R4; telephone (450) 437-2862 or (800) 363-8023; fax (450) 433-0272; or at http://www.bellcustomer.com/files/.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on June 24, 2015.
Bruce E. Cain,
Acting Directorate Manager, Rotorcraft Directorate, Aircraft Certification Service.

[FR Doc. 2015-16469 Filed 7-6-15; 8:45 am]

BILLING CODE 4910-13-P